ENVIRONMENTAL PROTECTION AGENCY

[FRL-9943-71-OAR]

Request for Nominations for the Mobile Sources Technical Review Subcommittee

AGENCY: Environmental Protection Agency (EPA).

ACTION: Request for nominations for the mobile sources technical review subcommittee.

SUMMARY: The U.S. Environmental Protection Agency (EPA) invites nominations from a diverse range of qualified candidates to be considered for appointment to its Mobile Sources Technical Review Subcommittee (MSTRS). Vacancies are anticipated to be filled by Spring, 2017. Sources in addition to this Federal Register document may also be utilized in the solicitation of nominees.

DATES: Nominations must be postmarked or emailed by April 8, 2016.

ADDRESSES: Submit nominations to: Courtney McCubbin, Designated Federal Officer, Office of Transportation and Air Quality, U.S. Environmental Protection Agency (6406A), 1200 Pennsylvania Avenue NW., Washington, DC 20460. You may also email nominations with subject line MSTRS2016 to mccubbin.courtney@epa.gov.

FOR FURTHER INFORMATION CONTACT: Courtney McCubbin, Designated Federal Officer, U.S. EPA; telephone: (202) 564-2436; email: mccubbin.courtney@epa.gov.

SUPPLEMENTARY INFORMATION: Background: The MSTRS is a federal advisory committee chartered under the Federal Advisory Committee Act (FACA), Public Law 92-463. The MSTRS provides the Clean Air Act Advisory Committee (CAAAC) with independent advice, counsel and recommendations on the scientific and technical aspects of programs related to mobile source air pollution and its control.

Through its expert members from diverse stakeholder groups and from its various workgroups, the subcommittee reviews and addresses a wide range of developments, issues and research areas such as emissions modeling, emission standards and standard setting, air toxics, innovative and incentive-based transportation policies, onboard diagnostics, heavy-duty engines, diesel retrofit, fuel quality and greenhouse gases. The Subcommittee's Web site is at: http://www.epa.gov/caaac/mobile-sources-technical-review-subcommittee-mstrs-caaac.

Members are appointed by the EPA Administrator for three year terms with the possibility of reappointment to a second term. The MSTRS usually meets two times annually and the average workload for the members is approximately 5 to 10 hours per month. EPA provides reimbursement for travel and other incidental expenses associated with official government business for members who qualify.

EPA is seeking nominations from representatives of nonfederal interests such as:

• Future transportation options and shared mobility interests

• Mobile source emission modeling interests

• Transportation and supply chain shippers

• Marine and inland port interests

• Environmental advocacy groups

• Community and/or environmental justice interests

• State and local government interests

EPA values and welcomes diversity. In an effort to obtain nominations of diverse candidates, EPA encourages nominations of women and men of all racial and ethnic groups.

In selecting members, we will consider technical expertise, coverage of broad stakeholder perspectives, diversity and the needs of the subcommittee.

The following criteria will be used to evaluate nominees:

• The background and experiences that would help members contribute to the diversity of perspectives on the committee (e.g., geographic, economic, social, cultural, educational, and other considerations);

• Experience working with future transportation options and shared mobility;

• Experience working with the modeling of mobile source emissions;

• Experience working with producers of passenger cars, engines and trucks, engine and equipment manufacturing;

• Experience working with fuel or renewable fuel producers;

• Experience working with oil refiners, distributors and retailers of mobile source fuels;

• Experience working with clean energy producers;

• Experience working with agricultural producers (corn and other crop products), distillers, processors and shippers of biofuels;

• Experience working with emission control manufacturers, catalyst and filter manufacturers;

• Experience working for State and local environmental agencies or State Air Pollution Control Agencies;

• Experience working for environmental advocacy groups;

• Experience working for environmental and/or community groups;

• Experience working with supply chain logistics and goods movement;

• Experience working with marine port interests;

• Experience in working at the national level on local governments issues;

• Demonstrated experience with environmental and sustainability issues;

• Executive management level experience with membership in broad-based networks;

• Excellent interpersonal, oral and written communication and consensus-building skills;

• Ability to volunteer time to attend meetings two times a year, participate in teleconference and webinar meetings, attend listening sessions with the Administrator or other senior-level officials, develop policy recommendations to the Administrator, and prepare reports and advice letters.

Nominations must include a resume and a short biography describing the professional and educational qualifications of the nominee, as well as the nominee's current business address, email address, and daytime telephone number. Interested candidates may self-nominate.

To help the Agency in evaluating the effectiveness of its outreach efforts, please tell us how you learned of this opportunity.

Please be aware that EPA's policy is that, unless otherwise prescribed by statute, members generally are appointed to three-year terms.

Dated: March 3, 2016.
Karl Simon,
Director, Transportation and Climate Division, Office of Transportation and Air Quality.

[FR Doc. 2016-05817 Filed 3-14-16; 8:45 am]

BILLING CODE 6560-50-P